DEPARTMENT OF COMMERCE

International Trade Administration

[A-570-932]

Certain Steel Threaded Rod From the People's Republic of China: Notice of Court Decision Not in Harmony With Final Results of Administrative Review and Notice of Amended Final Results of Antidumping Duty Administrative Review

AGENCY: Enforcement and Compliance, International Trade Administration, Department of Commerce.

SUMMARY: On November 20, 2019, the United States Court of International Trade (the Court) sustained the final results of redetermination pertaining to the antidumping duty (AD) administrative review of certain steel threaded rod (STR) from the People's Republic of China (China) covering the period April 1, 2013 through March 31, 2014. The Department of Commerce (Commerce) is notifying the public that the final judgment in this case is not in harmony with the final results of the administrative review and that Commerce is amending the final results with respect to the separate rate status assigned to Gem-Year Industrial Co., Ltd. (Gem-Year).

DATES: Applicable November 30, 2019.

FOR FURTHER INFORMATION CONTACT: Jerry Huang, AD/CVD Operations, Office V, Enforcement and Compliance, International Trade Administration, U.S. Department of Commerce, 1401 Constitution Avenue NW, Washington, DC 20230; telephone (202) 482-4047.

SUPPLEMENTARY INFORMATION:

Background

On November 12, 2015, Commerce published its Final Results of the 2013-2014 AD administrative review of STR from China.¹ On February 27, 2019, the Court remanded the Final Results to Commerce to reconsider its decision to reject Gem-Year's application for separate rate status and resulting treatment of Gem-Year as part of the China-wide entity.² On remand, Commerce issued its final results of redetermination in accordance with the Court's order, determining that Gem-Year had established its eligibility for a separate rate, and that the use of adverse facts available was warranted in determining Gem-Year's weighted-average dumping margin.³ On November 20, 2019, the Court sustained Commerce's Final Remand Redetermination.⁴

¹ See Certain Steel Threaded Rod from the People's Republic of China: Final Results of Antidumping Duty Administrative Review; 2013-2014, 80 FR 69938 (November 12, 2015) (Final Results) and accompanying Issues and Decision Memorandum (IDM).

² See Hubbell Power Systems, Inc. v. United States, Court No. 15-00312, Slip Op. 19-25 (CIT February 27, 2019) (Remand Order).

³ See Final Results of Redetermination Pursuant to Court Remand Hubbell Power Systems, Inc. v. United States, Court No. 15-00312, Slip Op. 19-25 (CIT February 27, 2019), dated May 20, 2019 (Final Remand Redetermination).

⁴ See Hubbell Power Systems, Inc. v. United States, Court No. 15-00312, Slip Op. 19-145 (CIT November 20, 2019).

Timken Notice

In its decision in Timken,⁵ as clarified by Diamond Sawblades,⁶ the Court of Appeals for the Federal Circuit (CAFC) held that, pursuant to section 516A of the Tariff Act of 1930, as amended (the Act), Commerce must publish a notice of a court decision that is not “in harmony” with a Commerce determination and must suspend liquidation of entries pending a “conclusive” court decision. The Court's November 20, 2019 judgment sustaining the Final Remand Redetermination constitutes a final decision of the Court that is not in harmony with Commerce's Final Results. This notice is published in fulfillment of the publication requirements of Timken.

⁵ See Timken Co., v. United States, 893 F.2d 337 (Fed. Cir. 1990) (Timken).

⁶ See Diamond Sawblades Mfrs. Coalition v. United States, 626 F.3d 1374 (Fed. Cir. 2010) (Diamond Sawblades).

Amended Final Results

Because there is now a final court decision, Commerce is amending its Final Results with respect to Gem-Year. Commerce finds that for the period April 1, 2013 through March 31, 2014 Gem-Year has demonstrated its eligibility for a separate rate as follows:

Producer/exporter | Weighted- average dumping margin
Gem-Year Industrial Co., Ltd | 206.00

Accordingly, Commerce will continue the suspension of liquidation of the subject merchandise pending the expiration of the period of appeal or, if appealed, pending a final and conclusive court decision. In the event the Court's ruling is not appealed or, if appealed, upheld by the CAFC, Commerce will instruct U.S. Customs and Border Protection (CBP) to assess antidumping duties on unliquidated entries of subject merchandise exported by Gem-Year using the assessment rate assigned by Commerce, as listed above.

Cash Deposit Requirements

Because Gem-Year does not have a superseding cash deposit rate, i.e., there have been no final results published in a subsequent administrative review for Gem-Year, Commerce will issue revised cash deposit instructions to CBP. Effective November 30, 2019, the cash deposit rate applicable to entries of subject merchandise exported by Gem-Year is 206.00 percent.

Notification to Interested Parties

This notice is issued and published in accordance with sections 516A(e), 751(a)(1), and 777(i)(1) of the Act.

Dated: November 27, 2019
Jeffrey I. Kessler,
Assistant Secretary for Enforcement and Compliance.

[FR Doc. 2019-26215 Filed 12-3-19; 8:45 am]

BILLING CODE 3510-DS-P